DEPARTMENT OF TRANSPORTATION

Federal Aviation Administration

[Summary Notice No. PE-2001-45]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before July 10, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on June 14, 2001.
Donald P. Byrne,
Assistant Chief Counsel for Regulations.

Petitions for Exemption

Docket No.: FAA-2001-9679.

Petitioner: Lufthansa Tecnik AG.

Section of 14 CFR Affected: 14 CFR 25.785(j).

Description of Relief Sought: To provide relief from that portion of 14 CFR 25.785(j) which requires a firm handhold along each aisle to enable persons to steady themselves while using the aisles in moderately rough air. The petitioner requests this exemption for the Boeing Model 737-700IGW, equipped with an executive interior, to be used in a private, not for hire, operation.

Docket No.: ANM-2001-6919.

Petitioner: Dassault Falcon Jet Corporation.

Section of 14 CFR Affected: 14 CFR 25.813(e).

Description of Relief Sought: To allow the petitioner to install a latchable sliding door which can be stored in a cabin partition during takeoffs, landings and emergency conditions on its Falcon 900 and 900EX aircraft operated in accordance with part 91 and part 135. When latched, the door permits totally free access to the cabin aisle and emergency exits.

[FR Doc. 01-15420 Filed 6-18-01; 8:45 am]

BILLING CODE 4910-13-M